DEPARTMENT OF HEALTH AND HUMAN SERVICES

Centers for Disease Control and Prevention

[Docket No. CDC-2023-0031; NIOSH 232]

Board of Scientific Counselors, National Institute for Occupational Safety and Health, National Firefighter Registry Subcommittee

AGENCY: Centers for Disease Control and Prevention (CDC), Department of Health and Human Services (HHS).

ACTION: Notice of meeting and request for comment.

SUMMARY: In accordance with regulatory provisions, the Centers for Disease Control and Prevention (CDC) announces the following meeting of the Board of Scientific Counselors, National Institute for Occupational Safety and Health (BSC, NIOSH), National Firefighter Registry Subcommittee. This is a virtual meeting. It is open to the public, limited only by the number of web conference lines (500 web conference lines are available). Time will be available for public comment.

DATES: The meeting will be held on June 13, 2023, from 9 a.m. to 4:15 p.m., EDT.

Written comments must be received on or before June 6, 2023.

ADDRESSES: If you wish to attend the meeting, please register at the NIOSH website at https://www.cdc.gov/niosh/bsc/nfrs/registration.html or by telephone at (404) 498-2581 no later than June 6, 2023.

You may submit comments, identified by Docket No. CDC-2023-0031; NIOSH-232, by either of the methods listed below. CDC does not accept comments by email.

• Federal eRulemaking Portal: https://www.regulations.gov. Follow the instructions for submitting comments.

• Mail: Ms. Sherri Diana, NIOSH Docket Office, National Institute for Occupational Safety and Health, 1090 Tusculum Avenue, Mailstop C-34, Cincinnati, Ohio 45226. Attn: Docket No. CDC-2023-0031; NIOSH-232.

Instructions: All submissions received must include the Agency name and docket number. Docket number CDC-2023-0031; NIOSH-232 will close June 6, 2023.

FOR FURTHER INFORMATION CONTACT: Emily J.K. Novicki, M.A., M.P.H., Designated Federal Officer, Board of Scientific Counselors, National Institute for Occupational Safety and Health, Centers for Disease Control and Prevention, 1600 Clifton Road NE, Mailstop V24-4, Atlanta, Georgia 30329-4027. Telephone: (404) 498-2581; Email: ENovicki@cdc.gov.

SUPPLEMENTARY INFORMATION:

Background: The Secretary of Health and Human Services, the Assistant Secretary for Health, and by delegation, the Director, Centers for Disease Control and Prevention (CDC), are authorized under Sections 301 and 308 of the Public Health Service Act to conduct directly, or by grants or contracts, research, experiments, and demonstrations relating to occupational safety and health and to mine health.

The Board of Scientific Counselors, National Institute for Occupational Safety and Health (BSC, NIOSH) provides advice to the NIOSH Director on NIOSH research and prevention programs. The Board also provides guidance on the Institute's research activities related to developing and evaluating hypotheses, systematically documenting findings, and disseminating results. In addition, the Board evaluates the degree to which the activities of NIOSH: (1) conform to those standards of scientific excellence appropriate for federal scientific institutions in accomplishing objectives in occupational safety and health; (2) address currently relevant needs in the fields of occupational safety and health either alone or in conjunction with other known activities inside and outside of NIOSH; and (3) produce their intended results in addressing important research questions in occupational safety and health, both in terms of applicability of the research findings and dissemination of the findings.

Purpose: The BSC, NIOSH National Firefighter Registry Subcommittee provides scientific expertise to the Board that assists the BSC, NIOSH in advising the NIOSH Director about the Institute's efforts to establish and operate the National Firefighter Registry. Specifically, the Subcommittee advises the Board on the following issues pertaining to the “required strategy” as mandated by the Firefighter Cancer Registry Act of 2018 (the Act): (1) increase awareness of the National Firefighter Registry and encourage participation among all groups of firefighters; (2) consider data collection needs; (3) consider data storage and electronic access of health information; and (4) in consultation with subject matter experts, develop a method for estimating the number and type of fire incidents attended by a firefighter. Additional responsibilities of the Subcommittee are to provide guidance to the Board regarding the inclusion and maintenance of data on firefighters as required by the Act.

Matters To Be Considered: The agenda for the meeting includes the National Firefighter Registry project overview, status, national launch and updates, communication strategies, targeted enrollment approach, follow-up questionnaire planning, and future planning applicable to stakeholders. Agenda items are subject to change as priorities dictate.

The agenda is also posted on the NIOSH website at https://www.cdc.gov/niosh/bsc/nfrs/.

Public Participation

Written Public Comment: Written comments will be accepted per the instructions provided in the addresses section above. Comments received in advance of the meeting are part of the public record and are subject to public disclosure. The comments will be included in the official record of the meeting. Do not include any information in your comment or supporting materials that you consider confidential or inappropriate for public disclosure. If you include your name, contact information, or other information that identifies you in the body of your comments, that information will be on public display. CDC will review all submissions and may choose to redact, or withhold, submissions containing private or proprietary information such as Social Security numbers, medical information, inappropriate language, or duplicate/near-duplicate examples of a mass-mail campaign. CDC will carefully consider all comments submitted into the docket.

Written comments received by June 6, 2023, will be provided to the Subcommittee prior to the meeting.

Oral Public Comment: The public is welcome to participate during the public comment period, from 11:45 a.m. to 12 p.m., EDT, June 13, 2023. Each commenter will be provided up to five minutes for comment. A limited number of time slots are available and will be assigned on a first-come, first-served basis. Members of the public who wish to address the Subcommittee are requested to contact the Designated Federal Officer for scheduling purposes (see FOR FURTHER INFORMATION CONTACT above).

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-09065 Filed 4-28-23; 8:45 am]

BILLING CODE 4163-18-P